DEPARTMENT OF ENERGY

Proposed Subsequent Arrangement

AGENCY: Office of Nonproliferation and International Security, Department of Energy.

ACTION: Proposed subsequent arrangement.

SUMMARY: This notice is being issued under the authority of section 131a. of the Atomic Energy Act of 1954, as amended. The Department is providing notice of a proposed subsequent arrangement under the Agreement for Cooperation in the Peaceful Uses of Nuclear Energy Between the European Atomic Energy Community (EURATOM) and the United States of America and the Agreement for Cooperation between the Government of the United States of America and the Government of Norway Concerning Peaceful Uses of Nuclear Energy.

DATES: This subsequent arrangement will take effect no sooner than April 13, 2011.

FOR FURTHER INFORMATION CONTACT: Mr. Sean Oehlbert, Office of Nonproliferation and International Security, National Nuclear Security Administration, Department of Energy. Telephone: 202-586-3806 or e-mail: Sean.Oehlbert@nnsa.doe.gov.

SUPPLEMENTARY INFORMATION: This subsequent arrangement concerns a request for a three-year extension (April 2011 to April 2014) of the current programmatic approval for retransfer of U.S.-obligated irradiated fuel rods between Studsvik Nuclear AB, Sweden, and Institutt for Energiteknikk, Norway. The rods are being transferred for irradiation service, tests and examinations, and will be returned to Sweden for further test and final disposal. The total shipping amounts will be the same as allowed under the current approval—a maximum of 30,000 grams uranium, 400 grams U-235 and 400 grams plutonium in all shipments, combined, with a maximum of 100 grams of plutonium per shipment.

The original programmatic consent was approved in June 2006 and published in the Federal Register June 13, 2006, (71 FR 34080). A one-year extension was approved in January 2007 and published in the Federal Register January 23, 2007, (72 FR 2876). A three-year extension was approved in March 2008 and published in the Federal Register March 5, 2008, (73 FR 11894). The current extension is set to expire April 2011. If approved, the third extension, for three years, will extend to April 2014. Additional transactions are scheduled to occur between April 2011 and April 2014 and will be subject to the U.S.-EURATOM Agreement for Cooperation in the Peaceful Uses of Nuclear Energy.

In accordance with section 131a. of the Atomic Energy Act of 1954, as amended, it has been determined that this subsequent arrangement will not be inimical to the common defense and security.

Dated: March 8, 2011.
For the Department of Energy.
Anne M. Harrington,
Deputy Administrator, Defense Nuclear Nonproliferation.

[FR Doc. 2011-7326 Filed 3-28-11; 8:45 am]

BILLING CODE 6450-01-P